Title 3—

The President

Proclamation 9093 of March 31, 2014

National Cancer Control Month, 2014

By the President of the United States of America

A Proclamation

Over the past two decades, our Nation has achieved great progress in the fight against cancer. Americans have better tools to decrease their risk, and medical advances have made many forms of cancer more preventable, detectable, and treatable than ever. Despite these strides, cancer remains the second leading cause of death in our country. During National Cancer Control Month, we redouble our efforts to boost awareness, improve care, and help more Americans win their battles against cancer.

While it is impossible to completely eliminate the risk of cancer, we can take action to reduce our chances of developing this disease. Not smoking, eating a healthy diet rich in fruit and vegetables, getting regular exercise, and limiting alcohol consumption and sun exposure can decrease the risk of certain cancers while also keeping us healthy day-to-day. A half century after the Surgeon General's landmark Report on Smoking and Health, our Nation has cut tobacco use rates in half. Yet smoking still causes one out of three cancer deaths. For advice on how to quit smoking, visit BeTobaccoFree.gov or SmokeFree.gov, or call 1-800-QUIT-NOW. I also encourage Americans to go to www.Cancer.gov for more information on cancer prevention.

Because the best way to beat many forms of this disease is to catch the cancer in its early stages, my Administration has taken steps to make cancer screenings more available and affordable. The Affordable Care Act requires most insurance plans to cover recommended preventive services, like cancer screenings, at no out-of-pocket cost to the patient. It also bans discrimination against people with pre-existing conditions, including cancer, and eliminates lifetime and annual dollar limits on key benefits. Thanks to this law, millions of Americans now have access to affordable health insurance—many of them for the first time. In addition to expanding access to health care, we are investing in promising medical research. Each year, we devote billions of dollars toward investigating causes of cancer and unlocking better prevention, detection, and treatment methods.

This month, let us renew our push to defeat cancer, honor those we have lost, lend our support to survivors, and bring new hope to all those struggling with this disease.

The Congress of the United States, by joint resolution approved March 28, 1938 (52 Stat. 148; 36 U.S.C. 103), as amended, has requested the President to issue an annual proclamation declaring April as “Cancer Control Month.”

NOW, THEREFORE, I, BARACK OBAMA, President of the United States of America, do hereby proclaim April 2014 as National Cancer Control Month. I encourage citizens, government agencies, private businesses, nonprofit organizations, and other interested groups to join in activities that will increase awareness of what Americans can do to prevent and control cancer.

IN WITNESS WHEREOF, I have hereunto set my hand this thirty-first day of March, in the year of our Lord two thousand fourteen, and of the Independence of the United States of America the two hundred and thirty-eighth.

[FR Doc. 2014-07777

Filed 4-3-14; 11:15 am]

Billing code 3295-F4